DEPARTMENT OF COMMERCE

International Trade Administration

Amended Trade Mission Application Deadline to the Clean EDGE (Enhancing Development and Growth Through Clean Energy) and Environmental Technologies Business Development Mission to India

AGENCY: International Trade Administration, Department of Commerce.

ACTION: Notice.

SUMMARY: The United States Department of Commerce, International Trade Administration (ITA), is organizing an executive-led Clean EDGE and Environmental Technologies Business Development Mission to India from March 4-11, 2024, with stops in New Delhi and Mumbai. In addition to these stops, mission participants can select an optional, additional stop in Hyderabad or Chennai. This notice is to update the prior Federal Register notice to reflect that the application deadline is now extended to November 17, 2023.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION: Amendment to Revise the Trade Mission Deadline for Submitting Applications.

Background

Clean EDGE (Enhancing Development and Growth Through Clean Energy) and Environmental Technologies Business Development Mission to India

The International Trade Administration has determined that to allow for optimal execution of recruitment, the application deadline has been extended from October 20, 2023, to November 17, 2023. Applications may be accepted after that date if space remains and scheduling constraints permit. Interested U.S. companies and trade associations/organizations that have not already submitted an application are encouraged to do so. The U.S. Department of Commerce will review applications and make selection decisions on a rolling basis in accordance with the 88 FR 57926 (August 24, 2023). The applicants selected will be notified as soon as possible.

Contact

Matthew Eiss, International Trade Specialist, Office of South Asia, +1-202-893-1470, Email: Matthew.Eiss@trade.gov

Frances Selema, Global Asia Team Leader, U.S. Commercial Service—Greensboro, North Carolina, +1-919-695-6366, Email: Frances.Selema@trade.gov

Victoria Yue, Senior Climate Trade Policy Specialist, Office of Energy and Environmental Industries, +1-202-482-3492, Email: Victoria.Yue@trade.gov

Anastasia Mukherjee, Commercial Officer, U.S. Embassy in India—New Delhi, Email: Anastasia.Mukherjee@trade.gov

Haisum Shah, Senior International Trade Specialist, U.S. Commercial Service—Portland, Oregon, +1-503-347-1708, Email: Haisum.Shah@trade.gov

Danielle Caltabiano, Global Energy Team Leader, U.S. Commercial Service—Houston, Texas, +1-281-228-5655, Email: Danielle.Caltabiano@trade.gov

Elizabeth Laxague, Global Environmental Technologies Team Leader, U.S. Commercial Service—Seattle, Washington, +1-206-406-8903, Email: Elizabeth.Laxague@trade.gov

Gemal Brangman,
Director, Trade Events Management Task Force.

[FR Doc. 2023-23934 Filed 10-30-23; 8:45 am]

BILLING CODE 3510-DR-P